DEPARTMENT OF HOMELAND SECURITY

Federal Emergency Management Agency

[Docket ID FEMA-2015-0001; Internal Agency Docket No. FEMA-B-1526]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: July 28, 2015.
Roy E. Wright,
Deputy Associate Administrator for Insurance and Mitigation, Department of Homeland Security, Federal Emergency Management Agency.

State and county | Location and case No. | Chief executive officer of community | Community map repository | Online location of letter of map revision | Effective date of modification | Community No.
Arizona:
Pima | Town of Marana (14-09-3997P) | The Honorable Gilbert Davidson, Manager, Town of Marana, 11555 West Civic Center Drive, Marana, AZ 85653 | Town Hall, 11555 West Civic Center Drive, Marana, AZ 85653 | http://www.msc.fema.gov/lomc | Aug. 24, 2015 | 040118
Pima | Unincorporated areas of Pima County (14-09-3997P) | The Honorable Sharon Bronson, Chair, Pima County Board of Supervisors, 130 West Congress Street, 11th Floor, Tucson, AZ 85701 | Pima County Flood Control District, 97 East Congress Street, 3rd Floor, Tucson, AZ 85701 | http://www.msc.fema.gov/lomc | Aug. 24, 2015 | 040073
Colorado:
Arapahoe | City of Englewood (15-08-0562P) | The Honorable Randy Penn, Mayor, City of Englewood, 1000 Englewood Parkway, Englewood, CO 80110 | Engineering Services Department, 3400 South Elati Street, Englewood, CO 80110 | http://www.msc.fema.gov/lomc | Sep. 25, 2015 | 085074
Denver | City and County of Denver (15-08-0562P) | The Honorable Michael B. Hancock, Mayor, City and County of Denver, 1437 Bannock Street, Suite 350, Denver, CO 80202 | City and County of Denver, Department of Public Works, 201 West Colfax Avenue, Denver, CO 80202 | http://www.msc.fema.gov/lomc | Sep. 25, 2015 | 080046
Douglas | Unincorporated areas of Douglas County (14-08-1222P) | The Honorable Jill Repella, Chair, Douglas County Board of Commissioners, 100 3rd Street, Castle Rock, CO 80104 | Douglas County Department of Public Works, 100 3rd Street, Castle Rock, CO 80104 | http://www.msc.fema.gov/lomc | Sep. 18, 2015 | 080049
Florida:
Manatee | Unincorporated areas of Manatee County (14-04-A642P) | The Honorable Betsy Benac, Chair, Manatee County Board of Commissioners, P.O. Box 1000, Bradenton, FL 34206 | Manatee County Building and Development Services Department, 1112 Mantee Avenue West, Bradenton, FL 34205 | http://www.msc.fema.gov/lomc | Jul. 3, 2015 | 120153
Orange | City of Orlando (15-04-4309X) | The Honorable Buddy Dyer, Mayor, City of Orlando, 400 South Orange Avenue, Orlando, FL 32802 | Stormwater Management Department, 4200 South John Young Parkway, Orlando, FL 32839 | http://www.msc.fema.gov/lomc | Oct. 5, 2015 | 120186
Orange | Unincorporated areas of Orange County (15-04-4309X) | The Honorable Teresa Jacobs, Mayor, Orange County, 201 South Rosalind Avenue, 5th Floor, Orlando, FL 32801 | Orange County Permitting Services Division, 400 South Orange Avenue, Orlando, FL 32801 | http://www.msc.fema.gov/lomc | Oct. 5, 2015 | 120179
Maryland:
Frederick | Unincorporated areas of Frederick County (15-03-0484P) | The Honorable Jan H. Gardner, Frederick County Executive, 12 East Church Street, Frederick, MD 21701 | Public Works Department, 355 Montevue Lane, Suite 200, Frederick, MD 21702 | http://www.msc.fema.gov/lomc | Aug. 31, 2015 | 240027
New Mexico: Eddy | City of Carlsbad (14-06-4548P) | The Honorable Dale W. Janway, Mayor, City of Carlsbad, P.O. Box 1569, Carlsbad, NM 88221 | City Hall, 101 North Halagueno Street, Carlsbad, NM 88220 | http://www.msc.fema.gov/lomc | Aug. 28, 2015 | 350017
New York:
Niagara | Town of Niagara (15-02-0453P) | The Honorable Lee S. Wallace, Supervisor, Town of Niagara, 7105 Lockport Road, Niagara Falls, NY 14305 | Town Hall, 7105 Lockport Road, Niagara Falls, NY 14305 | http://www.msc.fema.gov/lomc | Oct. 16, 2015 | 360507
Niagara | Town of Wheatfield (15-02-0453P) | The Honorable Robert B. Cliffe, Supervisor, Town of Wheatfield, 2800 Church Road, Wheatfield, NY 14120 | Town Hall, 2800 Church Road, Wheatfield, NY 14120 | http://www.msc.fema.gov/lomc | Oct. 16, 2015 | 360513
Suffolk | Town of Southampton (15-02-0499P) | The Honorable Anna Throne-Holst, Supervisor, Town of Southampton, 116 Hampton Road, Southampton, NY 11968 | Building Department, 116 Hampton Road, Southampton, NY 11968 | http://www.msc.fema.gov/lomc | Oct. 16, 2015 | 365342
North Carolina:
Pitt | City of Greenville (15-04-3563P) | The Honorable Allen M. Thomas, Mayor, City of Greenville, 200 West 5th Street, Greenville, NC 27834 | City Hall, 200 West 5th Street, Greenville, NC 27834 | http://www.msc.fema.gov/lomc | Aug. 26, 2015 | 370191
Pitt | Unincorporated areas of Pitt County (15-04-3563P) | The Honorable Glen Webb, Chairman, Pitt County Board of Commissioners, 1717 West 5th Street, Greenville, NC 27834 | Pitt County Planning Department, 1717 West 5th Street, Greenville, NC 27834 | http://www.msc.fema.gov/lomc | Aug. 26, 2015 | 370372
Wayne | City of Goldsboro (15-04-2620P) | The Honorable Alfonzo King, Mayor, City of Goldsboro, P.O. Drawer A, Goldsboro, NC 27533 | Engineering Department, 200 North Center Street, Goldsboro, NC 27530 | http://www.msc.fema.gov/lomc | Aug. 25, 2015 | 370255
Texas:
Bell | City of Temple (14-06-3184P) | The Honorable Danny Dunn, Mayor, City of Temple, 2 North Main Street, Suite 103, Temple, TX 76501 | Planning Department, 2 North Main Street, Temple, TX 76501 | http://www.msc.fema.gov/lomc | Sep. 25, 2015 | 480034
Bexar | City of San Antonio (14-06-4529P) | The Honorable Ivy R. Taylor, Mayor, City of San Antonio, P.O. Box 839966, San Antonio, TX 78283 | Storm Water Division, 1901 South Alamo Street, 2nd Floor, San Antonio, TX 78204 | http://www.msc.fema.gov/lomc | Oct. 2, 2015 | 480045
Bexar | City of San Antonio (15-06-0641P) | The Honorable Ivy R. Taylor, Mayor, City of San Antonio, P.O. Box 839966, San Antonio, TX 78283 | Storm Water Division, 1901 South Alamo Street, 2nd Floor, San Antonio, TX 78204 | http://www.msc.fema.gov/lomc | Sep. 22, 2015 | 480045
Brazoria | City of Iowa Colony (15-06-1613P) | The Honorable Robert Wall, Mayor, City of Iowa Colony, 12003 County Road 65, Iowa Colony, TX 77583 | City Hall, 12003 County Road 65, Iowa Colony, TX 77583 | http://www.msc.fema.gov/lomc | Sep. 28, 2015 | 481071
Brazoria | City of Manvel (15-06-1613P) | The Honorable Delores Martin, Mayor, City of Manvel, 20025 Highway 6, Manvel, TX 77578 | City Hall, 20025 Highway 6, Manvel, TX 77578 | http://www.msc.fema.gov/lomc | Sep. 28, 2015 | 480076
Brazoria | Unincorporated areas of Brazoria County (15-06-1613P) | The Honorable Matt Sebesta, Jr., Brazoria County Judge, 111 East Locust Street, Suite 102, Angleton, TX 77515 | Brazoria County Floodplain Department, 111 East Locust Street, Building A-29, Angleton, TX 77515 | http://www.msc.fema.gov/lomc | Sep. 28, 2015 | 485458
Denton | Unincorporated areas of Denton County (15-06-2283X) | The Honorable Mary Horn, Denton County Judge, 110 West Hickory Street, 2nd Floor, Denton, TX 76201 | Denton County Government Center, 1505 East McKinney Street, Suite 175, Denton, TX 76209 | http://www.msc.fema.gov/lomc | Oct. 5, 2015 | 480774
El Paso | Town of Anthony (15-06-0836P) | The Honorable Luis Vela, Mayor, Town of Anthony, 401 Wildcat Drive, Anthony, TX 79281 | Town Hall, 401 Wildcat Drive, Anthony, TX 79281 | http://www.msc.fema.gov/lomc | Sep. 15, 2015 | 480804
Harris | City of Houston (15-06-1456P) | The Honorable Annise D. Parker, Mayor, City of Houston, P.O. Box 1562, Houston, TX 77251 | Office of Emergency Management, 5320 North Shepherd Drive, Houston, TX 77091 | http://www.msc.fema.gov/lomc | Sep. 25, 2015 | 480296
Tarrant | City of Fort Worth (14-06-3506P) | The Honorable Betsy Price, Mayor, City of Fort Worth, 1000 Throckmorton Street, Fort Worth, TX 76102 | City Hall, 1000 Throckmorton Street, Fort Worth, TX 76102 | http://www.msc.fema.gov/lomc | Aug. 3, 2015 | 480596
Tarrant | City of North Richland Hills (14-06-2312P) | The Honorable Oscar Trevino, Jr., P.E., Mayor, City of North Richland Hills, 7301 Northeast Loop 820, North Richland Hills, TX, 76180 | City Hall, 7301 Northeast Loop 820, North Richland Hills, TX, 76180 | http://www.msc.fema.gov/lomc | Aug. 5, 2015 | 480607
Travis | City of Pflugerville (14-06-4534P) | The Honorable Brandon Wade, Manager, City of Pflugerville, P.O. Box 589, Pflugerville, TX 78691 | Planning Department, 201-B East Pecan Street, Pflugerville, TX 78691 | http://www.msc.fema.gov/lomc | Aug. 27, 2015 | 481028

[FR Doc. 2015-20343 Filed 8-18-15; 8:45 am

BILLING CODE 9110-12-P